DEPARTMENT OF TRANSPORTATION

Federal Aviation Administration

[Docket No. FAA-2025-0708]

Agency Information Collection Activities: Requests for Comments; Clearance of a Renewed Approval of Information Collection: Pilot Certification Unmanned Aircraft Systems

AGENCY: Federal Aviation Administration (FAA), DOT.

ACTION: Notice and request for comments.

SUMMARY: In accordance with the Paperwork Reduction Act of 1995, FAA invites public comments about our intention to request the Office of Management and Budget (OMB) approval to renew an information collection. The collection involves information submitted on FAA form 8710-13 (Remote Pilot Certificate and/or Rating Application) by persons applying for a Part 107 remote pilot certificate and/or rating. A Part 107 remote pilot certificate and/or rating is required to act as remote pilot in command of an unmanned aircraft system (UAS) being operated under Part 107. The form requires an applicant to provide information such as their name, address, physical characteristics (height, weight, etc.), existing pilot certificates, and whether the applicant took the knowledge test or training course. The applicant must provide proof of completion of a knowledge test or training course, as applicable, with the application. The information to be collected will be used to identify and evaluate your qualifications and eligibility for the issuance of a remote pilot certificate and/or rating. Form 8710-13 can be submitted electronically using the FAA's online Integrated Airman Certification and Rating Application (IACRA), by mail, or in person at certain FAA facilities.

DATES: Written comments should be submitted by July 22, 2025.

ADDRESSES: Please send written comments:

By Electronic Docket: www.regulations.gov (Enter docket number into search field).

By mail: Benjamin Walsh, FAA Flight Standards Service, Emerging Technologies Division, AFS-700, 13873 Park Center Road, Suite 475, Herndon, VA 20171.

By fax: 202-267-8233.

FOR FURTHER INFORMATION CONTACT: Benjamin Walsh by email at: ben.walsh@faa.gov; phone: 202-267-8233.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0777.

Title: Pilot Certification Unmanned Aircraft Systems.

Form Numbers: 8710-13.

Type of Review: Renewal of an information collection.

Background: Subpart C of title 14 Code of Federal Regulations part 107 (14 CFR part 107), Small Unmanned Aircraft Systems, provides requirements for applicants to obtain a remote pilot certificate, and establishes procedures for applicants to apply for such certificates. Part 107 also refers to a provision in 14 CFR part 61, as applicants who already hold a certificate under 14 CFR part 61 are eligible to obtain a remote pilot certificate by completing an initial training course in a manner acceptable to the Administrator.

Persons applying for a remote pilot certificate with a small UAS rating under part 107 must submit information using the FAA Form 8710-13, Remote Pilot Certificate and/or Rating Application. For applicants who do not hold a pilot certificate under part 61, the Remote Pilot Certificate and/or Rating Application is submitted along with a documentation demonstrating that the applicant has passed an aeronautical knowledge test. For applicants who hold a pilot certificate under part 61 and meet the flight review requirements of § 61.56, the Remote Pilot Certificate and/or Rating Application is submitted with evidence of completion of a training course.

The FAA has an electronic data collection system called the Integrated Airman Certification and Rating Application (IACRA). IACRA is a secure web-based application that uses online validation and digital signatures to complete the remote pilot certificate application documents. IACRA interfaces with multiple FAA databases such as knowledge testing and airman records for data validation and verification. It automatically ensures that applicants meet regulatory and policy requirements.

IACRA improves the airman certification process by checking for data errors that cause rejected applications. The certification processing time is reduced since the applicant, recommending instructor (if required), and inspector/examiner can complete the airman application online and can submit the completed application electronically using digital signatures. OMB has used IACRA as an example of FAA's compliance with the Government Paperwork Elimination Act.

Respondents: Persons submitting an application for a Remote Pilot Certificate and/or Rating for Small Unmanned Aircraft Systems, submitted either in paper form or online using the FAA's Integrated Airman Certification and Rating Application (IACRA) website. Approximately 59,000 applications submitted annually.

Frequency: On occasion, once per applicant.

Estimated Average Burden per Response: 15 minutes.

Estimated Total Annual Burden: One response per applicant per year; 14,750 hours total per year for all applicants.

Issued in Washington, DC, on May 19, 2025.
Joseph Morra,
Manager, Emerging Technologies Division, AFS-700.

[FR Doc. 2025-09268 Filed 5-22-25; 8:45 am]

BILLING CODE 4910-13-P